DEPARTMENT OF TRANSPORTATION

Federal Railroad Administration

[Docket Number FRA-2013-0095]

Notice of Application for Approval To Discontinue or Modify a Railroad Signal System

Under part 235 of Title 49 of the Code of Federal Regulations (CFR) and 49 U.S.C. 20502(a), this provides the public notice that on July 27, 2017, the Grenada Railroad, LLC (GRYR) petitioned the Federal Railroad Administration (FRA) seeking extension of the approval to discontinue or modify a signal system. FRA assigned the petition docket number FRA-2013-0095.

Applicant: Grenada Railroad, LLC, David Michaud, General Counsel, 118 South Clinton Street, Suite 400, Chicago, IL 60661.

The GRYR seeks an extension of FRA's approval to discontinue and remove of the automatic block signal (ABS) system between Southaven, Mississippi, milepost (MP) 403.0 and Grenada, Mississippi, MP 617.4.

The automatic block signal (ABS) system between Southaven, milepost (MP) 403.0 and Grenada, MS, MP 617.4 is out of service, but remains in place under conditions of FRA's February 2, 2016, decision letter.

The reasons given for the proposed changes were that the GRYR only operates one train a day at any given time, under Track Warrant Control (TWC), making the ABS redundant as well as expensive to maintain, with replacement parts becoming hard to acquire.

Grenada Railroad, LLC, was sold to the North Central Mississippi Regional Railroad Authority (NCMRRA). Iowa Pacific Railroad (IPRR) has been designated as the operating railroad for this property by the NCMRRA.

A copy of the petition, as well as any written communications concerning the petition, is available for review online at www.regulations.gov and in person at the Department of Transportation's Docket Operations Facility, 1200 New Jersey Ave. SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by November 2, 2017 will be considered by FRA before final action is taken. Comments received after that date will be considered if practicable.

Anyone can search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.transportation.gov/privacy. See also http://www.regulations.gov/privacyNotice for the privacy notice of regulations.gov.

Robert C. Lauby,
Associate Administrator for Railroad Safety, Chief Safety Officer.

[FR Doc. 2017-19683 Filed 9-15-17; 8:45 am]

BILLING CODE 4910-06-P